DEPARTMENT OF THE INTERIOR

Fish and Wildlife Service

[FWS-R4-ES-2014-N05; FXES111300400000C2-145-FF04E00000]

Endangered and Threatened Wildlife and Plants; Notice of Availability of the Final Recovery Plan for Golden Sedge (Carex Lutea)

AGENCY: Fish and Wildlife Service, Interior.

ACTION: Notice of availability.

SUMMARY: We, the Fish and Wildlife Service, announce the availability of the final recovery plan for golden sedge (Carex lutea), a species endemic to the coastal plain in North Carolina. The final recovery plan includes specific recovery objectives and criteria to be met in order to downlist this species to threatened status or delist it under the Endangered Species Act of 1973, as amended (Act).

ADDRESSES: You may obtain a copy of the recovery plan by contacting Dale Suiter at the Raleigh Field Office, by U.S. mail at U.S. Fish and Wildlife Service, Raleigh Field Office, 551-F Pylon Drive, Raleigh, North Carolina 27606; or by telephone at (919) 856-4520, extension 18; or by visiting our recovery plan Web site at http://www.fws.gov/endangered/species/recovery-plans.html.

FOR FURTHER INFORMATION CONTACT: Dale Suiter, at the above address or by telephone at (919) 856-4520, ext. 18.

SUPPLEMENTARY INFORMATION:

Introduction

We listed golden sedge as an endangered species under the Act (16 U.S.C. 1531 et seq.), on January 23, 2002 (67 FR 3120), and designated critical habitat for the species on March 1, 2011 (76 FR 11086). This species is a rare perennial member of the sedge family (Cyperaceae) endemic to the coastal plain of North Carolina. It is currently known from only 21 occurrences (specific locations or sites) located within a 16 by 5 mile area in Pender and Onslow Counties. All eight populations of this plant occur in the Northeast Cape Fear River watershed in North Carolina.

Factors contributing to its endangered status are an extremely limited range and loss of habitat. The primary threat is the loss or alteration of habitat, from fire suppression; residential, commercial, or industrial development; mining; livestock grazing; and woody or invasive species encroachment.

Background

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development.

Recovery Plan Specifics

The objective of this plan is to provide a framework for the recovery of golden sedge so that protection under the Act is no longer necessary. The draft of this recovery plan was available for public comment from June 18, 2013, through August 19, 2013 (78 FR 36566). We considered the information received via public comments as well as from peer reviewers in our preparation and approval of this final recovery plan. We also edited some sections of the draft recovery plan to reflect these comments; however, no substantial changes were made to the draft recovery plan.

Criteria for Reclassification From Endangered to Threatened

Golden sedge will be considered for reclassification from endangered to threatened status when all of the following criteria are met:

1. There are 10 protected Carex lutea sites in the wild that are distributed across the range of the species. [Note: Recovery sites will be considered permanently protected when they are placed under a conservation easement or other binding land agreement and a management agreement, and are ranked as an A or B population by the North Carolina Natural Heritage Program (NCNHP).]

2. On each of the 10 Carex lutea sites, for at least 5 years, any non-native plant species that have the potential to displace Carex lutea are maintained at or below 10 percent of total number of species and at or below 10 percent cover (volume).

3. All 10 Carex lutea sites demonstrate stable or increasing population trends for 5 consecutive years.

4. Habitat management plans are actively being implemented for at least seven of the protected sites.

5. A prescribed fire regime has been developed and is being conducted at all sites to mimic historical frequency and timing (the frequency will be determined through recovery actions in this plan).

We define “protected” to mean the site has been fee-simple acquired and put into long-term conservation by a local or State agency, or that a conservation easement or other binding land agreement has been placed on the site by a landowner that shows a commitment to its conservation in perpetuity and Carex lutea from the site is represented in a Center for Plant Conservation (CPC)-approved seed bank. In addition, each site should have a management agreement/plan developed. Prescribed fire should be part of the agreement/plan and implemented regularly. These plans should include monitoring, according to protocols developed collaboratively by the U.S. Fish and Wildlife Service (USFWS), North Carolina Department of Agriculture and Consumer Services (NCDACS), North Carolina Division of Parks and Recreation (NCDPR), and The Nature Conservancy (TNC) and other interested parties; the monitoring should occur annually at each protected site. Each site should contain an A or B ranked occurrence. For downlisting to be considered, we would like to have at least 7 of the 10 protected sites to be A-ranked occurrences. The remaining three sites can be either A or B ranked occurrences.

Criteria for Delisting

Carex lutea will be considered for removal from the List of Endangered and Threatened Species (delisting) when all of the following criteria are met:

1. There are 15 protected sites in the wild that are distributed across the range of the species. [Note: Recovery sites will be considered permanently protected when they are placed under a conservation easement or other binding land agreement and a management agreement, and are ranked as an A or B population by the NCNHP.]

2. On each of the 15 Carex lutea sites, for at least 5 years, any non-native plant species that have the potential to displace Carex lutea are maintained at or below 10 percent of total number of species and at or below 10 percent cover (volume).

3. All 15 Carex lutea sites demonstrate stable or increasing population trends for 10 consecutive years.

4. Habitat management plans are actively being implemented for all protected sites and are showing evidence that actions are proving effective for this plant.

5. A prescribed fire regime is being conducted at all sites to mimic historical frequency and timing (which will be determined through recovery actions in this plan). The definition of “protected” is the same as in the criteria for downlisting. For delisting to be considered, at least 10 of the 15 protected sites should be A ranked occurrences. The remaining five sites can be either A or B ranked occurrences.

Next Steps

As reclassification and recovery criteria are met, the status of the species will be reviewed, and it will be considered for reclassification or removal from the Federal List of Endangered and Threatened Plants.

Authority

The authority for this action is section 4(f) of the Endangered Species Act, 16 U.S.C. 1533(f).

Dated: April 23, 2014.
Cynthia K. Dohner,
Regional Director, Southeast Region, U.S. Fish and Wildlife Service.

[FR Doc. 2014-11730 Filed 5-20-14; 8:45 am]

BILLING CODE 4310-55-P